DEPARTMENT OF ENERGY

Federal Energy Regulatory Commission

Combined Notice of Filings #1

Take notice that the Commission received the following electric rate filings:

Docket Numbers: ER21-2698-000.

Applicants: Portland General Electric Company.

Description: Puget Sound Energy, Inc. submits Average System Cost Rate Filing for Sales of Electric Power to the Bonneville Power Administration, FY 2024-2025.

Filed Date: 12/1/22.

Accession Number: 20221201-5315.

Comment Date: 5 p.m. ET 12/22/22.

Docket Numbers: ER22-2344-001.

Applicants: Southwest Power Pool, Inc.

Description: Tariff Amendment: Deficiency Response—Storage Facilities as Transmission Only Assets to be effective 12/31/9998.

Filed Date: 12/2/22.

Accession Number: 20221202-5142.

Comment Date: 5 p.m. ET 12/23/22.

Docket Numbers: ER23-557-000.

Applicants: PJM Interconnection, L.L.C.

Description: § 205(d) Rate Filing: Revisions to OATT & OA on Emission Adders and Calculation of Cost-Based Offers to be effective 2/1/2023.

Filed Date: 12/2/22.

Accession Number: 20221202-5123.

Comment Date: 5 p.m. ET 12/23/22.

Docket Numbers: ER23-558-000.

Applicants: PJM Interconnection, L.L.C.

Description: § 205(d) Rate Filing: Original NSA, Service Agreement No. 6720; Queue No. AE1-100 to be effective 11/3/2022.

Filed Date: 12/5/22.

Accession Number: 20221205-5008.

Comment Date: 5 p.m. ET 12/27/22.

Docket Numbers: ER23-559-000.

Applicants: PJM Interconnection, L.L.C.

Description: § 205(d) Rate Filing: Original ISA, Service Agreement No. 6705; Queue No. AE1-056 to be effective 11/3/2022.

Filed Date: 12/5/22.

Accession Number: 20221205-5023.

Comment Date: 5 p.m. ET 12/27/22.

Docket Numbers: ER23-560-000.

Applicants: New York Independent System Operator, Inc., Niagara Mohawk Power Corporation.

Description: § 205(d) Rate Filing: New York Independent System Operator, Inc. submits tariff filing per 35.13(a)(2)(iii: NYISO-National Grid Joint 205 Amended SGIA SA No. 2573 Grissom Solar to be effective 11/18/2022.

Filed Date: 12/5/22.

Accession Number: 20221205-5050.

Comment Date: 5 p.m. ET 12/27/22.

Docket Numbers: ER23-561-000.

Applicants: Black Hills Power, Inc.

Description: § 205(d) Rate Filing: Filing of Second Amended and Restated Standard LGIA with Fall River Solar, LLC to be effective 12/6/2022.

Filed Date: 12/5/22.

Accession Number: 20221205-5085.

Comment Date: 5 p.m. ET 12/27/22.

Docket Numbers: ER23-562-000.

Applicants: TGP Energy Management II, LLC.

Description: Baseline eTariff Filing: Market-Based Rate Application to be effective 2/4/2023.

Filed Date: 12/5/22.

Accession Number: 20221205-5097.

Comment Date: 5 p.m. ET 12/27/22.

Take notice that the Commission received the following electric securities filings:

Docket Numbers: ES23-10-000.

Applicants: DTE Electric Company.

Description: Application Under Section 204 of the Federal Power Act for Authorization to Issue Securities of DTE Electric Company.

Filed Date: 12/2/22.

Accession Number: 20221202-5217.

Comment Date: 5 p.m. ET 12/23/22.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 5, 2022.
Kimberly D. Bose,
Secretary.

[FR Doc. 2022-26773 Filed 12-8-22; 8:45 am]

BILLING CODE 6717-01-P